DEPARTMENT OF DEFENSE

Department of the Army, Corps of Engineers

[Permit No. SWG-2019-00067 and Section 408 Request ID No. REIN-19-111]

Notice of Final Federal Agency Action on the Authorization for the Port of Corpus Christi Authority Channel Deepening Project

AGENCY: Department of the Army, U.S. Army Corps of Engineers, DoD.

ACTION: Notice of limitation on claims for judicial review of actions by the U.S. Army Corps of Engineers (USACE).

SUMMARY: USACE announces final agency action on the USACE authorization for the proposed deepening of the Port of Corpus Christi Authority Channel Deepening Project (CDP) located in and along the existing Corpus Christi Ship Channel. USACE has issued a permit authorizing the construction and maintenance of the CDP Project under sections 10 and 14 of the Rivers and Harbors Act of 1899 (RHA), section 404 of the Clean Water Act (CWA), and section 103 of the Marine Protection, Research and Sanctuaries Act (MPRSA). The CDP Project is a “covered project” under Title 41 of the Fixing America's Surface Transportation Act.

DATES: A claim seeking judicial review of the USACE authorization of construction of the CDP Project will be barred unless the claim is filed not later than two years after this notice's publication date. If the Federal law that allows for judicial review of the USACE authorization specifies a shorter time period for filing such a claim, then that shorter time period will apply.

FOR FURTHER INFORMATION CONTACT: Jayson M Hudson, Regulatory Project Manager, Regulatory Division, USACE, Galveston District, 2000 Fort Point Road, Galveston, Texas 77550, (409)-766-3108, or SWG201900067@usace.army.mil.

SUPPLEMENTARY INFORMATION: Notice is hereby given that USACE has taken final agency action on its authorization for the proposed CDP Project by issuing a permit authorizing construction of the Project under section 10 and 14 of the RHA, section 404 of the CWA, and section 103 of the MPRSA.

The CDP project proposes to deepen the Corpus Christi Ship Channel (CCSC) from the Gulf to station 110+00 near Harbor Island in Nueces County, Texas, including the approximate 10 mile-extension to the Entrance Channel necessary to reach sufficiently deep waters. The CDP consists of deepening the CCSC from the authorized −54 feet MLLW to approximately −75 feet MLLW, with 2 feet of advanced maintenance and 2 feet of allowable overdredge, from Station 110+00 into the Gulf to Station −72+50 (3.5 miles) and deepening from the authorized −56 feet MLLW to approximately −77 feet MLLW, with 2 feet of advanced maintenance and 2 feet of allowable overdredge, from Station −72+50 to Station 620+00 in the Gulf (10.4 mile). As a result of one-way transit assumed for VLCCs, the planned widths for the −54-foot currently authorized project are nominally sufficient. Therefore, no widening other than the minor incidental widening to keep these bottom widths and existing channel slopes at the proposed deeper depths would occur. Deepening would take place largely within the footprint of the currently authorized −54-foot channel.

Dredging 46.3 million cubic yards would be required with inshore and Gulf placement of the material. Placement would occur in a mix of placement areas (PAs), Beneficial Use (BU) sites, and/or the New Work Ocean Dredged Material Disposal Sites (ODMDS). Placement of new work dredged material would occur at the following BU and PA sites: (1) SS1: Restoring eroded shorelines; (2) SS2: Restore eroded shoreline along Port Aransas Nature Preserve/Charlie's Pasture; (3) PA4: Reestablish eroded shoreline and land loss in front of PA4 (SS1 Extension), and upland placement within PA4; (4) HI-E: Bluff and shoreline restoration with site fill' (5) PA6: Raise levee 5-foot and fill with new work material; (6) SJI: Beach restoration San José Island; (7) B1-B9: Nearshore berms offshore of San José Island and Mustang Island; (8) MI: Beach nourishment for Gulf side of Mustang Island; (9) ODMDS: Place within New Work ODMDS.

The USACE's decision to issue a permit, and the laws under which the action was taken, are described in the Final Environmental Impact Statement for the Proposed Corpus Christi Ship Channel Deepening Project (FEIS) published on March 22, 2024. The FEIS, ROD, permit, and other documents can be viewed and downloaded from the USACE website at https://www.swg.usace.army.mil/Missions/Regulatory/Special-Projects-Environmental-Impact-Statements/. By this notice, USACE is advising the public of final agency action subject to 42 U.S.C. 4370m-6(a)(1)(A).

This notice applies to all Federal agency decisions that are final as of the issuance date of this notice and all laws under which such actions were taken, including but not limited to:

1. National Environmental Policy Act (NEPA) 42 U.S.C. 4321-4351

2. Section 10 of the Rivers and Harbors Act 33 U.S.C. 403

3. Section 404 of the Clean Water Act 33 U.S.C. 1344

4. Section 103 of the Marine Protection and Sanctuaries Act 33 U.S.C. 1401 et seq

5. Section 14 of the Rivers and Harbors Act 33 U.S.C. 408

6. Clean Air Act 42 U.S.C. 7401-7671

7. Endangered Species Act of 1973 16 U.S.C. 1531-1544

8. Fish and Wildlife Coordination Act 16 U.S.C. 661-667

9. Magnuson-Stevens Fishery Conservation and Management Act Public Law 94-265

10. Coastal Zone Management Act 16 U.S.C. 1451 et seq

11. Migratory Bird Treaty Act 16 U.S.C. 703-712

12. Section 106 of the National Historic Preservation Act of 1966 as amended 54 U.S.C. 306108

13. Archeological Resources Protection Act of 1977 54 U.S.C. 312501-312508

14. Section 401 of the Clean Water Act 33 U.S.C. 1341

15. Executive Order 11990 Protection of Wetlands

16. E.O. 11988 Floodplain Management

17. E.O. 12898, Federal Actions to Address Environmental Justice

18. EP 1100-2-1 Procedures to Evaluate Sea Level Change: Impacts, Responses, and Adaptation

Wesley E. Coleman, Jr.,
Programs Director, Southwestern Division, U.S. Army Corps of Engineers.

[FR Doc. 2024-15689 Filed 7-16-24; 8:45 am]

BILLING CODE 3720-58-P